DEPARTMENT OF VETERANS AFFAIRS

[OMB Control No. 2900-0165]

Agency Information Collection Activity Under OMB Review: Financial Status Report

AGENCY: Debt Management Center, Department of Veterans Affairs.

ACTION: Notice.

SUMMARY: In compliance with the Paperwork Reduction Act (PRA) of 1995, this notice announces that the Debt Management Center, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice by clicking on the following link www.reginfo.gov/public/do/PRAMain, select “Currently under Review—Open for Public Comments”, then search the list for the information collection by Title or “OMB Control No. 2900-0165.”

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0165” in any correspondence.

SUPPLEMENTARY INFORMATION:

Authority: Public Law 104-13; 5 U.S.C. 5514; 38 U.S.C. 5302; 38 U.S.C. 5314; 31 U.S.C. 3711; 38 U.S.C. 3716; 38 U.S.C. 3717; 38 U.S.C. 3718; 38 U.S.C. 5316

Title: Financial Status Report, VA Form 5655.

OMB Control Number: 2900-0165.

Type of Review: Revision of a currently approved collection.

Abstract: The major use of the form is to document and support eligibility determinations for waivers of collection, for the consideration of compromise offers, or to document information to assist in developing repayment plans.

An agency may not conduct or sponsor, and a person is not required to respond to a collection of information unless it displays a currently valid OMB control number. The Federal Register Notice with a 60-day comment period soliciting comments on this collection of information was published at 88 FR 130 on July 10, 2023, page 43651.

Affected Public: Individuals and households.

Estimated Annual Burden: 33,335.

Estimated Average Burden per Respondent: 60 minutes.

Frequency of Response: Annual.

Estimated Number of Respondents: 33,335.

By direction of the Secretary.
Maribel Aponte,
VA PRA Clearance Officer, Office of Enterprise and Integration, Data Governance Analytics, Department of Veterans Affairs.

[FR Doc. 2023-21454 Filed 9-28-23; 8:45 am]

BILLING CODE 8320-01-P